DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of December 2000.

Name: Advisory Commission on Childhood Vaccines (ACCV).

Date and Time: December 6, 2000; 9:00 a.m.—5:00 p.m.

Place: DoubleTree Hotel, 1750 Rockville Pike, Rockville, Maryland 20852.

The meeting is open to the public.

The full Commission will meet on Wednesday, December 6, from 9:00 a.m. to 5:00 p.m. Agenda items will include, but not be limited to: a presentation of the Petitioners Attorney Perspective, a summary of the National Vaccine Program Office (NVPO) Vaccine Risk Communication Workshop, a presentation on the Parent Understanding of Immunication Survey Results, and a FDA Workshop summary on Evaluation of New Vaccines. Updates from the Department of Justice and the National Vaccine Program Office, and routine program reports.

Public comment will be permitted before lunch and at the end of the Commission meeting on December 6, 2000. Oral presentations will be limited to 5 minutes per public speaker. Persons interested in providing an oral presentation should submit a written request, along with a copy of their presentation to: Ms. Cheryl Lee, Principal Staff Liaison, Division of Vaccine Injury Compensation, Bureau of Health Professions, Health Resources and Services Administration, Room 8A-46, 5600 Fishers Lane, Rockville, MD 20857, Telephone (301) 443-6593. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time.

Persons who do not file an advance request for a presentation, but desire to make an oral statement, may sign-up in the Conference Room at the DoubleTree Hotel on December 6, 2000. These persons will be allocated time as time permits.

Anyone requiring information regarding the Commission should contact Ms. Lee, Division of Vaccine Injury Compensation, Bureau of Health Professions, Health Resources and Services Administration, Room 8A-46, 5600 Fishers Lane, Rockville, Maryland 20857, Telephone (301) 443-6593.

Agenda items are subject to change as priorities dictate.

Dated: November 13, 2000.
Jane M. Harrison,
Director, Division of Policy Review and Coordination.

[FR Doc. 00-29327 Filed 11-15-00; 8:45 am]

BILLING CODE 4160-15-P